DEPARTMENT OF ENERGY

Federal Energy Regulatory Commission

[Docket No. PF14-22-000]

Tennessee Gas Pipeline Company, LLC; Notice of Public Scoping Meeting for the Northeast Energy Direct Project, and Extension of Scoping Comment Period

The staff of the Federal Energy Regulatory Commission (Commission) will hold an additional public scoping meeting for the Northeast Energy Direct Pipeline Project (Project) proposed by Tennessee Gas Pipeline in the above-referenced docket. This meeting was referenced in the previous Notice issued on June 30, 2015. The scoping comment period has also been extended until October 16, 2015. In addition to sending written comments, the Commission invites you to attend the public scoping meeting its staff will conduct in the project area to receive verbal comments on the Project. Transcripts of the meetings will be available for review in eLibrary (www.ferc.gov/docs-filing/elibrary.asp) under Docket No. PF14-22-000. The meeting time and location are provided below.

Date and time | Location
September 29, 2015, 6:00 p.m | Franklin Pierce University, Field House, University Drive, Rindge, New Hampshire 03461, 603-899-4000.

The Commission's staff will begin the sign-up of speakers one hour before the meeting begins. The scoping meeting will begin with a brief description of our environmental review process by Commission staff, after which speakers will be called. The meeting will end once all speakers have provided their comments or 11:00 p.m., whichever comes first. A time limit may be implemented (typically no less than 3 minutes) for each commenter, to ensure all those wishing to comment have the opportunity to do so. Speakers should structure their oral comments accordingly. Time limits will be strictly enforced to ensure that as many individuals as possible are given an opportunity to comment. It is important to note that written comments provided to staff, or otherwise filed with FERC, hold the same weight as oral comments.

Dated: September 3, 2015.
Nathaniel J. Davis, Sr.,
Deputy Secretary.

[FR Doc. 2015-24384 Filed 9-24-15; 8:45 am]

BILLING CODE 6717-01-P